DEPARTMENT OF COMMERCE

Bureau of Industry and Security

15 CFR Parts 710 Through 729

[Docket No. 99061158-4361-04]

RIN 0694-AB06

Chemical Weapons Convention Regulations

AGENCY: Bureau of Industry and Security, Commerce.

ACTION: Proposed rule; extension of comment period.

SUMMARY: This document extends until February 7, 2005, the deadline for public comments on the proposed rule that would amend the Chemical Weapons Convention Regulations (CWCR) by updating them to include additional requirements identified in the implementation of the Chemical Weapons Convention (CWC) and to clarify other CWC requirements. This extension of time would allow the public additional time to comment on the rule.

DATES: Comments on this rule must be received by February 7, 2005.

ADDRESSES: You may submit comments, identified by RIN 0694-AB06, by any of the following methods:

• E-mail: wfisher@bis.doc.gov. Include “RIN 0694-AB06” in the subject line of the message.

• Fax: (202) 482-3355. Please alert the Regulatory Policy Division, by calling (202) 482-2440, if you are faxing comments.

• Mail or Hand Delivery/Courier: Willard Fisher, U.S. Department of Commerce, Bureau of Industry and Security, Regulatory Policy Division, 14th St. & Pennsylvania Avenue, NW., Room 2705, Washington, DC 20230, ATTN: RIN 0694-AB06.

FOR FURTHER INFORMATION CONTACT: For questions of a general or regulatory nature, contact the Regulatory Policy Division, telephone: (202) 482-2440. For program information on declarations, reports, advance notifications, chemical determinations, recordkeeping, inspections and facility agreements, contact the Treaty Compliance Division, Office of Nonproliferation and Treaty Compliance, telephone: (703) 605-4400; for legal questions, contact Rochelle Woodard, Office of the Chief Counsel for Industry and Security, telephone: (202) 482-5301.

SUPPLEMENTARY INFORMATION:

Background

On December 7, 2004 (69 FR 70754), the Bureau of Industry and Security (BIS) published a proposed rule that would amend the Chemical Weapons Convention Regulations (CWCR) by updating them to include additional requirements, which were identified as necessary for the implementation of the Chemical Weapons Convention (CWC) provisions, and to clarify other CWC requirements. The deadline for the comment period on the proposed rule was January 6, 2005. The Bureau is now extending that deadline to February 7, 2005, to allow the public additional time to comment on the rule.

Dated: January 3, 2005.
Eileen Albanese,
Director, Office of Exporter Services.

[FR Doc. 05-287 Filed 1-5-05; 8:45 am]

BILLING CODE 3510-33-P